DEPARTMENT OF ENERGY

Western Area Power Administration

Boulder Canyon Project—Post-2017 Application of the Energy Planning and Management Program Power Marketing Initiative

AGENCY: Western Area Power Administration, DOE.

ACTION: Notice of proposal.

SUMMARY: The Western Area Power Administration (Western), Desert Southwest Region, a Federal power marketing agency of the Department of Energy (DOE) announces its Post-2017 remarketing effort for the Boulder Canyon Project (BCP). Current BCP long-term contracts will expire on September 30, 2017. In 1995, Western adopted the Power Marketing Initiative (PMI) in Subpart C of the Energy Planning and Management Program (Program) (10 CFR part 905). The Record of Decision for the Program states that application of the PMI will be done on a project-specific basis. If, by means of a public process, Western applies the PMI to the BCP, the current long-term contractors of the project would receive an extension of a major portion of the resources available to them at the time their contracts expire. Western now proposes to apply the PMI to the long-term power contracts of the BCP.

DATES: Western will hold three public information forums regarding the BCP remarketing on the following dates: December 1, 2009, 1 p.m., PST, Las Vegas, Nevada; December 2, 2009, 1 p.m., PST, Ontario, California; December 3, 2009, 1 p.m., MST, Phoenix, Arizona.

Western will also hold three public comment forums. The dates for these forums are: January 19, 2010, 1 p.m., PST, Las Vegas, Nevada; January 20, 2010, 1 p.m., MST, Phoenix, Arizona; January 21, 2010, 1 p.m., PST, Ontario, California. Western will accept written comments on or before January 29, 2010. Western reserves the right to not consider any comments received after the prescribed date and time.

ADDRESSES: Comments may be submitted to: Mr. Darrick Moe, Western Area Power Administration, Desert Southwest Regional Manager, P.O. Box 6457, Phoenix, AZ 85005-6457. Comments may also be faxed to (602) 605-2490 or e-mailed to Post2017BCP@wapa.gov.

The public information and public comment forum locations are: Las Vegas Tropicana, 3801 Las Vegas Boulevard, South Las Vegas, Nevada; Western Area Power Administration, Desert Southwest Regional Office, 615 S. 43rd Ave, Phoenix, Arizona; DoubleTree Ontario Airport, 222 N. Vineyard, Ontario, California.

As access to Western facilities is controlled, any U.S. citizen wishing to attend any meeting held at Western must present an official form of picture identification, such as a U.S. driver's license, U.S. passport, U.S. Government ID, or U.S. Military ID, at the time of the meeting. Foreign nationals shall contact Western at least 45 days in advance of the meeting to obtain the necessary admittance to Western.

FOR FURTHER INFORMATION CONTACT: Mr. Mike Simonton, Remarketing Specialist, Desert Southwest Region, Western Area Power Administration, P.O. Box 6457, Phoenix, AZ 85005, telephone (602) 605-2675, e-mail Post2017BCP@wapa.gov. Program information and the Conformed General Consolidated Power Marketing Criteria or Regulations for Boulder City Area Projects (Conformed Criteria) published in the Federal Register (49 FR 50582) on December 28, 1984, are available at http://www.wapa.gov/dsw/pwrmkt.

SUPPLEMENTARY INFORMATION: In 1987, Western marketed the power resources of the BCP and entered into 30-year term contracts with the current BCP contractors in accordance with the Hoover Power Plant Act of 1984, and the Conformed Criteria. These events resulted in the allocation of 1,951 megawatts (MW) of contingent capacity with an associated 4,527,001 megawatt-hours (MWh) of annual firm energy. Pursuant to 43 U.S.C. 619a(4), these long-term contracts will expire on September 30, 2017. Western must determine if the PMI, as outlined in the Program, will be applied to the BCP for commitments beyond that date, the quantity of resources to be extended to existing contractors, the size of the proposed resource pool, excess energy provisions, and the term of the contract.

Western first proposed the Program on April 19, 1991 (56 FR 16093). The goals of the Program were to encourage efficient energy use by Western's power customers by requiring Integrated Resource Planning and to extend Western's firm power resource commitments. In the final rule of the Program, Western stated that application of the PMI, including the amount of resources extended, would initially apply only to the Pick-Sloan Missouri Basin Program-Eastern Division and the Loveland Area Projects. Applicability to other projects would be determined through future, project-specific public processes. Specific to the BCP, Western stated that it would evaluate application of the PMI to the BCP no more than 10 years before existing contracts expire. 60 FR 54151, 54157 (Oct. 20, 1995).

Consistent with the application of the PMI to other recent Western marketing efforts, Western proposes to apply the PMI (10 CFR parts 905.30 through 905.37) to the BCP. In consultation with the Bureau of Reclamation and referencing the most recent hydrologic studies, Western proposes to market 2,044 MW of contingent capacity with an associated 4,116,000 MWh of annual firm energy from the BCP. Western proposes to extend 100 percent of the existing contractors' contingent capacity allocations, totaling 1,951 MW, and 95 percent of the proposed marketable firm energy, totaling 3,910,200 MWh annually to the existing contractors based proportionally upon their existing allocations of marketed annual firm energy. This proposal would result in the creation of a single, one-time resource pool consisting of 93 MW of contingent capacity with an associated 205,800 MWh of annual firm energy. Western proposes that all contract terms be a length of 30 years commencing on October 1, 2017.

The marketing area is generally defined as consisting of southern California, southern Nevada, most of Arizona, and a small part of New Mexico; and is more specifically defined in the Conformed Criteria. New customers meeting the requirements established in the BCP marketing criteria and qualifying Native American Tribes within the BCP marketing area will be eligible to request an allocation of capacity and energy from the BCP resource pool. Native American Tribes need not have utility status to qualify for an allocation. As provided in the current BCP Implementation Agreement, new contractors, or contractors who receive an increased allocation will be required to reimburse existing BCP contractors for replacement capital advances to the extent existing contractors' allocations are reduced as a result of creating the resource pool.

Western is seeking comments regarding the applicability of the PMI to the BCP, the quantity of resources to be extended to existing contractors, the size of the proposed resource pool, excess energy provisions, and the term of contracts.

Under their respective State laws the Colorado River Commission (CRC) and the Arizona Power Authority (APA) have been the designated agents for acquiring and remarketing BCP power within Nevada and Arizona respectively. Western seeks comments regarding CRC and APA's role in Western's allocation process.

Following the public comment period, Western will analyze the comments received and publish its policy regarding the application of PMI to BCP in the Federal Register.

Regulatory Procedure Requirements

Determination Under Executive Order 12866

Western has an exemption from centralized regulatory review under Executive Order 12866; accordingly, no clearance of this notice by the Office of Management and Budget is required.

Environmental Compliance

In accordance with the DOE National Environmental Policy Act Implementing Procedures (10 CFR 1021), Western has determined that this action fits within class of action B4.1 Contracts/marketing plans/policies for excess electric power, in Appendix B to Subpart D to part 1021—Categorical Exclusions Applicable to Specific Agency Actions.

Dated: November 10, 2009.
Timothy J. Meeks,
Administrator.

[FR Doc. E9-27910 Filed 11-19-09; 8:45 am]

BILLING CODE 6450-01-P